POSTAL REGULATORY COMMISSION

[Docket No. CP2025-1; Order No. 8131]

Competitive Postal Products

AGENCY: Postal Regulatory Commission.

ACTION: Notice.

SUMMARY: The Commission is recognizing a recently filed Postal Service document with the Commission concerning changes in rates of general applicability for Competitive products. This notice informs the public of the filing, invites public comment, and takes other administrative steps.

DATES: Comments are due: December 13, 2024.

ADDRESSES: Submit comments electronically via the Commission's Filing Online system at https://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Summary of Changes

III. Initial Administrative Actions

IV. Ordering Paragraphs

I. Introduction

On November 15, 2024, the Postal Service filed notice with the Commission concerning changes in rates and classifications of general applicability for Competitive products.¹ The Postal Service represents that, as required by 39 CFR 3035.102(b) and 39 CFR 3035.104(b), the Notice includes an explanation and justification for the changes, the effective date, and a schedule of the changed rates. Notice at 1. The changes are scheduled to take effect on January 19, 2025. Id.

¹ USPS Notice of Changes in Rates and Classifications of General Applicability for Competitive Products, November 15, 2024 (Notice). Pursuant to 39 U.S.C. 3632(b)(2), the Postal Service is obligated to publish the Governors' Decision and record of proceedings in the Federal Register at least 30 days before the effective date of the new rates.

Attached to the Notice is Governors' Decision No. 24-7, which states the new prices are in accordance with 39 U.S.C. 3632 and 3633 and 39 CFR 3035.102-.104.² The Governors' Decision provides an analysis of the Competitive products' price and classification changes intended to demonstrate that the changes comply with 39 U.S.C. 3633 and 39 CFR part 3035. Governors' Decision No. 24-7 at 1. The Attachment to the Governors' Decision No. 24-7 sets forth the classification and price changes and includes draft Mail Classification Schedule (MCS) language for Competitive products of general applicability.

² Notice, Decision of the Governors of the United States Postal Service on Changes in Rates and Classifications of General Applicability for Competitive Products (Governors' Decision No. 24-7), at 1 (Governors' Decision No. 24-7).

In addition, the Notice includes a non-public annex showing FY 2025 projected volumes, revenues, attributable costs, contribution, and cost coverage for each product. See Notice at 1. The Postal Service also filed supporting forecast data and price adjustment calculations for each affected product as required by Order No. 1062. Id.

The Notice also includes an application for non-public treatment of the unredacted version of the annex to the Governors' Decision, as well as the supporting materials for the data. Id. at 1-2.

II. Summary of Changes

The Notice proposes price changes to Priority Mail Express, Priority Mail, Parcel Select, and USPS Ground Advantage, and several International Products. Id. at 2. Additionally, the proposed changes include price adjustments to Domestic Extra Services, including Premium Forwarding Service, Competitive Post Office Boxes, and Adult Signature Service among others. Id. The Postal Service proposes one classification change consisting of a new Live Animal and Perishable Handling Fee under the Priority Mail Express, Priority Mail, and USPS Ground Advantage products. Id. at 2-3. The Postal Service states that the Live Animal and Perishable Handling Fee is a change in rates of general applicability for Competitive products within the meaning of 39 CFR 3035.102. Id. at 3. No other price or classification changes are proposed in this docket. Id.; See Governors' Decision No. 24-7 at 2-5. The changes are summarized below and condensed to Table I-1.

A. Price changes

1. Domestic

Priority Mail Express changes. The proposed changes to the MCS in the Governors' Decision No. 24-7 show the Postal Service's planned price changes for Priority Mail Express. On average, Priority Mail Express prices are proposed to increase 3.2 percent. See id. at 2. For January 2025, the Postal Service will maintain the consolidation of Commercial Base and Commercial Plus price categories into one Commercial price category and the differentiated “Local, 1, 2” Zone prices and dimensional weighting for all zones. Id. The retail prices for Priority Mail Express will increase an average of 3.2 percent. Id. On average, commercial prices will increase by 3.2 percent and reflect an average of 12.4 percent discount off of retail prices. Id. For January 2025, the Postal Service proposes a Live Animal and Perishable Handling Fee of $7.50. Id.

Priority Mail changes. The proposed changes to the MCS in the Governors' Decision No. 24-7 show the Postal Service's planned price changes for Priority Mail. On average, Priority Mail prices are proposed to increase 3.2 percent. See id. For January 2025, the Postal Service will maintain the consolidation of Commercial Base and Commercial Plus price categories into one Commercial price category and the differentiated “Local, 1, 2” Zone prices and dimensional weighting for all zones. Id. On average, the retail prices will increase by 3.2 percent. Id. The commercial prices will increase by an average of 3.2 percent and reflect an average of 20.8 percent discount off retail prices. Id. For January 2025, the Postal Service proposes a Live Animal and Perishable Handling Fee of $15.00. Id. at 2-3.

Parcel Select. The proposed changes to the MCS in the Governors' Decision No. 24-7 show the Postal Service's planned price changes for Parcel Select. On average, Parcel Select prices are proposed to increase 9.2 percent. See id. at 3. The average price increase for parcels entered in destination delivery units is 10.3 percent and the average price increase for parcels entered at destination hubs is not changing. Id. The average price increase for parcels entered at destination sectional center facilities and destination network distribution centers and is 7.1 percent and 9.7 percent, respectively. Id. For USPS Connect Local, introduced in 2022, the average increase is 5.4 percent. Id. The Postal Service proposes to maintain dimensional weighting which was introduced for all zones in 2019. Id. The fee for Forward and Return to Sender will be increased to $3.60 and the fee for Address Correction Service with Shipper Paid Forwarding/Returns will be increased to $3.00. Id.

USPS Ground Advantage. The proposed changes to the MCS in the Governors' Decision No. 24-7 show the Postal Service's planned price changes for USPS Ground Advantage overall will increase an average of 3.9 percent. Id. The retail prices will increase an average of 4.9 percent and commercial will increase an average of 3.2 percent. Id. The Alaska Limited Overland Routes price category will increase an average of 9.0 percent. Id. For January 2025, the Postal Service proposes a Live Animal and Perishable Handling Fee of $7.50. Id.

Domestic Extra Services. The proposed changes to the MCS in the Governors' Decision No. 24-7 show the Postal Service's planned price changes for Premium Forwarding Service will increase an average of 6.1 percent. Id. Prices for Adult Signature service will decrease to $8.40 for basic service and $8.65 for person-specific service. Id. On average, prices for Address Enhancement Service are proposed to increase 8.9 percent. Id. Competitive Post Office Box prices will increase an average of 5.7 percent. Id. at 3-4. Package Intercept Services prices will increase to $18.35. Id. at 4. Premium Data Retention and Retrieval Service (USPS Tracking Plus) will increase 86.3 percent. Id. The fee for overweight/oversized items will increase from $100 to $200. Id. The Postal Service also proposes to increase the “upper bounds” of the price ranges for Greeting Cards and Stationery and Officially Licensed Retail Products to accommodate current and future offerings. Id.

2. International

Expedited Services. The proposed changes to the MCS in the Governors' Decision No. 24-7 show the Postal Service's planned price changes for Priority Mail Express International will increase an average of 4.9 percent with Commercial Plus equivalent to Commercial Base. Id.

Priority Mail International. The proposed changes to the MCS in the Governors' Decision No. 24-7 show the Postal Service's planned price changes for Priority Mail International will increase an average of 4.9 percent with Commercial Plus prices equivalent to Commercial Base. Id.

International Priority Airmail and International Surface Air Lift. The proposed changes to the MCS in the Governors' Decision No. 24-7 show the Postal Service's planned published price changes for International Priority Airmail and International Surface Air Lift will have an average increase of 4.9 percent and 28.9 percent, respectively. Id.

Airmail M-Bags. The published price changes for Airmail M-Bags will remain the same on average “although a few prices will change slightly.” Id.

First-Class Package International Service. The proposed changes to the MCS in the Governors' Decision No. 24-7 show the Postal Service's planned price changes for First-Class Package International Service will increase an average of 4.9 percent with Commercial Plus prices equivalent to Commercial Base. Id.

International Ancillary Service and Special Services. The proposed changes to the MCS in the Governors' Decision No. 24-7 show the Postal Service's planned price changes for several international ancillary services. Id. at 5. The price for International Certificate of Mailing will increase by 5.0 percent, while the price for International Registered Mail will increase by an average of 4.8 percent. Id. Lastly, the price for International Insurance will decrease by 10.0 percent and the price for Customs and Clearance Delivery Fee will increase by an average of 3.5 percent. Id.

B. Classification Changes

Live Animal and Perishable Handling Fee. For January 2025, the Postal Service proposes a Live Animal and Perishable Handling Fee for Priority Mail Express, Priority Mail, and USPS Ground Advantage to cover the additional costs associated with handling and transporting these items. Notice at 2-3.

³ The Postal Service describes the Overweight Item Charge as “the fee for deterring overweight/oversized items found in the system.” Governors' Decision 24-7 at 4.

⁴ The Postal Service states that for Airmail M-Bags “a few prices will change slightly.” Id.

Table I—1 Proposed Price Changes
Product name | Average price increase (percent)
Domestic Competitive Products
Priority Mail Express | 3.2
Retail | 3.2
Commercial | 3.2
Priority Mail | 3.2
Retail | 3.2
Commercial | 3.2
Parcel Select | 9.2
Destination Delivery Unit | 10.3
Destination Hub | 0.0
Destination Sectional Center Facility | 7.1
Destination Network Distribution Center | 9.7
Connect Local | 5.4
USPS Ground Advantage | 3.9
Retail | 4.9
Commercial | 3.2
Domestic Extra Services
Premium Forwarding Service | 6.1
Adult Signature Service
Basic | −10.2
Person-Specific | −10.4
Competitive Post Office Box | 5.7
Package Intercept Service | 4.9
Address Enhancement Service | 8.9
Premium Data Retention and Retrieval | 86.3
Other Domestic
Overweight Item Charge | ³ 100
International Competitive Products
Priority Mail Express International | 4.9
Priority Mail International | 4.9
International Priority Airmail | 4.9
International Surface Air Lift | 28.9
Airmail M-Bags | ⁴ 0.0
First-Class Package International Service | 4.9
International Ancillary Services and Special Services
International Certificate of Mailing | 5.0
International Insurance | −10.0
International Registered Mail | 4.8
Customs and Clearance Delivery Fee | 3.5
Source: See Governors' Decision No. 24-7 at 2-5. Percentage increases for Adult Signature Service and Package Intercept Service are calculated based on the proportional difference between current rates as shown in the MCS and the proposed rates specified in Governors' Decision No. 24-7.

III. Initial Administrative Actions

The Commission establishes Docket No. CP2025-1 to consider the Postal Service's Notice. Interested persons may express views and offer comments on whether the planned changes are consistent with 39 U.S.C. 3632, 3633, and 3642, 39 CFR part 3035, and 39 CFR 3040 subparts B and E. Comments are due no later than December 13, 2024. For specific details of the planned price changes, interested persons are encouraged to review the Notice, which is available on the Commission's website at www.prc.gov.

Pursuant to 39 U.S.C. 505, Samuel J. Robinson is appointed to serve as Public Representative to represent the interests of the general public in this docket.

IV. Ordering Paragraphs

It is ordered:

1. The Commission establishes Docket No. CP2025-1 to provide interested persons an opportunity to express views and offer comments on whether the planned changes are consistent with 39 U.S.C. 3632, 3633, and 3642, 39 CFR part 3035, and 39 CFR part 3040 subparts B and E.

2. Comments are due no later than December 13, 2024.

3. Pursuant to 39 U.S.C. 505, the Commission appoints Samuel J. Robinson to serve as an officer of the Commission (Public Representative) to represent the interests of the general public in this docket.

4. The Secretary shall arrange for publication of this order in the Federal Register.

By the Commission.
Erica A. Barker,
Secretary.

[FR Doc. 2024-28100 Filed 11-29-24; 8:45 am]

BILLING CODE 7710-FW-P